SMALL BUSINESS ADMINISTRATION

Audit and Financial Management Advisory (AFMAC)

Committee Meeting

The U.S. Small Business Administration's Audit and Financial Management Advisory Committee (AFMAC) will host a public meeting on Friday, September 23, 2005. The meeting will be take place at the U.S. Small Business Administration, 409 3rd Street, SW., Office of Chief Financial Officer Conference Room, 6th Floor, Washington, DC 20416. The AFMAC was established by the Administrator of the SBA to provide recommendation and advice regarding the Agency's financial management including the financial reporting process, systems of internal controls, audit process and process for monitoring compliance with relevant laws and regulations.

Anyone wishing to attend must contact Thomas Dumaresq in writing or by fax. Thomas Dumaresq, Chief Financial Officer , 409 3rd Street SW., Washington DC 20416, phone (202) 205-6506, fax: (202) 205-6869, e-mail: thomas.dumaresq@sba.gov.

Matthew K. Becker,
Committee Management Officer.

[FR Doc. 05-18889 Filed 9-21-05; 8:45 am]

BILLING CODE 8025-01-P